DEPARTMENT OF TRANSPORTATION

Federal Aviation Administration

14 CFR Part 39

[Docket No. FAA-2009-0747; Directorate Identifier 2009-NE-28-AD]

RIN 2120-AA64

Airworthiness Directives; Thielert Aircraft Engines GmbH (TAE) Model TAE 125-01 Reciprocating Engines

AGENCY: Federal Aviation Administration (FAA), DOT.

ACTION: Notice of proposed rulemaking (NPRM).

SUMMARY: We propose to adopt a new airworthiness directive (AD) for the products listed above. This proposed AD results from mandatory continuing airworthiness information (MCAI) issued by an aviation authority of another country to identify and correct an unsafe condition on an aviation product. The MCAI describes the unsafe condition as:

An in-flight engine shutdown incident was reported on an aircraft equipped with a TAE 125-01 engine. This was found to be mainly the result of a blockage of the scavenge oil gear pump due to a broken axial bearing of the turbocharger. The broken parts were sucked into the oil pump and caused seizure. With the pump inoperative, the separator overfilled, causing the engine oil to escape via the breather vent line. This caused a loss of oil that resulted in the engine overheating and subsequent shutdown.

We are proposing this AD to prevent engine in-flight shutdown, possibly resulting in reduced control of the aircraft.

DATES: We must receive comments on this proposed AD by October 19, 2009.

ADDRESSES: You may send comments by any of the following methods:

• Federal eRulemaking Portal: Go to http://www.regulations.gov and follow the instructions for sending your comments electronically.

• Mail: Docket Management Facility, U.S. Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

Contact Thielert Aircraft Engines GmbH, Platanenstrasse 14 D-09350, Lichtenstein, Germany, telephone: +49-37204-696-0; fax: +49-37204-696-55; e-mail: info@centurion-engines.com, for the service information identified in this proposed AD.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is the same as the Mail address provided in the ADDRESSES section. Comments will be available in the AD docket shortly after receipt.

FOR FURTHER INFORMATION CONTACT: Jason Yang, Aerospace Engineer, Engine Certification Office, FAA, Engine and Propeller Directorate, 12 New England Executive Park, Burlington, MA 01803; e-mail: jason.yang@faa.gov; telephone (781) 238-7747; fax (781) 238-7199.

SUPPLEMENTARY INFORMATION:

Comments Invited

We invite you to send any written relevant data, views, or arguments about this proposed AD. Send your comments to an address listed under the ADDRESSES section. Include “Docket No. FAA-2009-0747; Directorate Identifier 2009-NE-28-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact with FAA personnel concerning this proposed AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Discussion

The European Aviation Safety Agency (EASA), which is the Technical Agent for the Member States of the European Community, has issued EASA Airworthiness Directive 2007-0232, dated August 23, 2007 (referred to after this as “the MCAI”), to correct an unsafe condition for the specified products. The MCAI states:

An in-flight engine shutdown incident was reported on an aircraft equipped with a TAE 125-01 engine. This was found to be mainly the result of a blockage of the scavenge oil gear pump due to a broken axial bearing of the turbocharger. The broken parts were sucked into the oil pump and caused seizure. With the pump inoperative, the separator overfilled, causing the engine oil to escape via the breather vent line. This caused a loss of oil that resulted in the engine overheating and subsequent shutdown.

You may obtain further information by examining the MCAI in the AD docket.

Relevant Service Information

Thielert has issued Service Bulletin No. TM TAE 125-0016, Revision 1, dated June 15, 2007. The actions described in this service information are intended to correct the unsafe condition identified in the MCAI.

Differences Between This Proposed AD and the MCAI

We have reviewed the MCAI and, in general, agree with its substance. But we have found it necessary to change the compliance from “within the next 50 flight hours after the effective date of this directive, but not later than 31 October 2007, whichever occurs first”, to “within the next 50 flight hours after the effective date of this AD.”

FAA's Determination and Requirements of This Proposed AD

This product has been approved by the aviation authority of Germany and is approved for operation in the United States. Pursuant to our bilateral agreement with Germany, EASA has notified us of the unsafe condition described in the MCAI and service information referenced above. We are proposing this AD because we evaluated all information provided by EASA and determined the unsafe condition exists and is likely to exist or develop on other products of the same type design. This proposed AD would require the modification of the engine oil system by installing a filter adaptor to the catch tank.

Costs of Compliance

Based on the service information, we estimate that this proposed AD would affect about 250 products of U.S. registry. We also estimate that it would take about one work-hour per product to comply with this proposed AD. The average labor rate is $80 per work-hour. Required parts would cost about $80 per product. Based on these figures, we estimate the cost of the proposed AD on U.S. operators to be $40,000.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Thielert Aircraft Engines GmbH: Docket No. FAA-2009-0747; Directorate Identifier 2009-NE-28-AD.

Comments Due Date

(a) We must receive comments by October 19, 2009.

Affected Airworthiness Directives (ADs)

(b) None.

Applicability

(c) This AD applies to Thielert Aircraft Engines GmbH (TAE) model TAE 125-01 reciprocating engines, all serial numbers (SN) up to-and-including SN 02-01-1018. These engines are installed in, but not limited to, Diamond Aircraft Industries Model DA42, Piper PA-28-61 (Supplemental Type Certificate (STC) No. SA03303AT), Cessna 172F, 172G, 172H, 172I, 172K, 172L, 172M, 172N, 172P, 172R, 172S, F172F, F172G, F172H, F172K, F172L, F172M, F172N, and F172P (STC No. SA01303WI) airplanes.

Reason

(d) This AD results from mandatory continuing airworthiness information (MCAI) issued by an aviation authority of another country to identify and correct an unsafe condition on an aviation product. The MCAI describes the unsafe condition as:

An in-flight engine shutdown incident was reported on an aircraft equipped with a TAE 125-01 engine. This was found to be mainly the result of a blockage of the scavenge oil gear pump due to a broken axial bearing of the turbocharger. The broken parts were sucked into the oil pump and caused seizure. With the pump inoperative, the separator overfilled, causing the engine oil to escape via the breather vent line. This caused a loss of oil that resulted in the engine overheating and subsequent shutdown.

We are issuing this AD to prevent engine in-flight shutdown, possibly resulting in reduced control of the aircraft.

Actions and Compliance

(e) Unless already done, do the following actions within the next 50 flight hours after the effective date of this AD:

(1) Modify the engine oil system by installing a filter adaptor to the catch tank.

(2) Use the installation instructions in Thielert Service Bulletin No. TM TAE 125-0016, Revision 1, dated June 15, 2007, to install the filter adaptor.

FAA AD Differences

(f) This AD differs from the Mandatory Continuing Airworthiness Information (MCAI) as follows:

(1) The MCAI compliance time states “within the next 50 flight hours after the effective date of this directive, but not later than 31 October 2007, whichever occurs first”.

(2) This AD compliance time states “within the next 50 flight hours after the effective date of this AD.”

Related Information

(g) Refer to European Aviation Safety Agency AD 2007-0232, dated August 23, 2007, for related information. Contact Thielert Aircraft Engines GmbH, Platanenstrasse 14 D-09350, Lichtenstein, Germany, telephone: +49-37204-696-0; fax: +49-37204-696-55; e-mail: info@centurion-engines.com, for a copy of this service information.

(h) Contact Jason Yang, Aerospace Engineer, Engine Certification Office, FAA, Engine and Propeller Directorate, 12 New England Executive Park, Burlington, MA 01803; e-mail: jason.yang@faa.gov; telephone (781) 238-7747; fax (781) 238-7199, for more information about this AD.

Issued in Burlington, Massachusetts, on September 10, 2009.
Peter A. White,
Assistant Manager, Engine and Propeller Directorate, Aircraft Certification Service.

[FR Doc. E9-22313 Filed 9-16-09; 8:45 am]

BILLING CODE 4910-13-P